DEPARTMENT OF TRANSPORTATION

Maritime Administration

[Docket No. MARAD-2010 0023]

Inventory of U.S.-Flag Launch Barges

AGENCY: Maritime Administration, Department of Transportation.

ACTION: Inventory of U.S.-Flag Launch Barges.

SUMMARY: The Maritime Administration is updating its inventory of U.S.-flag launch barges. Additions, changes and comments to the list are requested. Launch barge information may be found at http://www.marad.dot.gov/ships_shipping_landing_page/domestic_shipping/launch_barge_program/Launch_Barge_Program.htm.

DATES: Any comments on this inventory should be submitted in writing to the contact person by April 21, 2010.

FOR FURTHER INFORMATION CONTACT: Joann Spittle, Office of Cargo Preference and Domestic Trade, Maritime Administration, MAR-730, 1200 New Jersey Avenue, SE., Washington, DC 20590. Telephone 202-366-5979 or 800-9US-FLAG; e-mail: Joann.Spittle@dot.gov.

SUPPLEMENTARY INFORMATION: Pursuant to 46 CFR Part 389 (Docket No. MARAD-2008-0045) Determination of Availability of Coastwise Qualified Launch Barges, the Interim Final Rule requires that the Maritime Administration publish a notice in the Federal Register requesting that owners or operators (or potential owners or operators) of coastwise qualified launch barges notify us of: (1) Their interest in participating in the transportation and, if needed, the launching or installation of offshore platform jackets; (2) the contact information for their company; and, (3) the specifications of any currently owned or operated coastwise qualified launch barges or plans to construct same. In addition, we are also seeking information on non-coastwise qualified (U.S.-flag) launch barges as well.

Privacy Act

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78).

Dated: March 15, 2010.
By Order of the Maritime Administrator.
Christine Gurland,
Acting Secretary, Maritime Administration.

Reported U.S.-Flag Launch Barges
[March 2009]
Vessel name | Owner | Built | Length (ft.) | Beam (ft.) | DWT (L.T.) | Approx launch capacity (L.T.) | Coastwise qualified
Julie B | Crowley Marine Services | 2008 | 400 | 130 | 23,600 | 23,100 | X
Marty J | Crowley Marine Services | 2008 | 400 | 105 | 19,226 | 18,766 | X
Barge 455-3 | Crowley Marine Services | 2008 | 400 | 105 | 19,226 | 18,766 | X
Barge 400L | Crowley Marine Services | 1997 | 400 | 100 | 19,646 | 19,146 | X
Barge 500-1 | Crowley Marine Services | 1982 | 400 | 105 | 16,397 | 15,897 | X
Barge 410 | Crowley Marine Services | 1974 | 400 | 99.5 | 12,035 | 11,535 | X
Barge 416 | Crowley Marine Services | 1975 | 400 | 99.5 | 12,035 | 11,535 | X
Barge 420 | Crowley Marine Services | 1975 | 400 | 99.5 | 10,700 | 6,000 |
MWB 403 | HMC Leasing, Inc. | 1979 | 400 | 105 | 16,322 | 6,800 | X
H-851 | Heerema Shipping | 1987 | 853 | 206.7 | 128,452 | 60,000 |
H-114 | Heerema Shipping | 1982 | 525 | 137.8 | 39,226 | 25,000 |
H-122 | Heerema Shipping | 1978 | 400 | 100 | 16,788 | 5,500 |
H-541 | Heerema Shipping | 2000 | 540 | 138 | 41,067 | 20,500 |
H-627 | Heerema Shipping | 1978 | 580 | 160 | 51,829 | 26,000 |
McDermott Tidelands 021 | J. Ray McDermott, Inc. | 1980 | 240 | 72 | 4,700 | 2,200 | X
McDermott Tidelands No. 012 | J. Ray McDermott, Inc. | 1973 | 240 | 72.2 | 4,217 | 4,000 | X
McDermott Tidelands No. 014 | J. Ray McDermott, Inc. | 1973 | 240 | 72.2 | 4,217 | 4,000 | X
McDermott Tidelands 020 | J. Ray McDermott, Inc. | 1980 | 240 | 72 | 5,186 | 5,000 | X
McDermott Tidelands 021 | J. Ray McDermott, Inc. | 1981 | 240 | 72 | 5,186 | 5,000 | X
INTERMAC 600 | J. Ray McDermott, Inc. | 1973 | 500 | 120 | 32,290 | 15,600 |
MARMAC 400 | McDonough Marine Service | 2001 | 400 | 99′-9″ | 10,861 | 4,400 | X
MARMAC 300 | McDonough Marine Service | 1998 | 300 | 100 | 10,267 | 4,200 | X
MARMAC 22 | McDonough Marine Service | 2003 | 260 | 72 | 5,198 | 2,400 | X
MARMAC 21 | McDonough Marine Service | 2002 | 260 | 72 | 5,120 | 2,400 | X
MARMAC 20 | McDonough Marine Service | 1999 | 250 | 72 | 4,943 | 2,200 | X
MARMAC 19 | McDonough Marine Service | 1999 | 250 | 72 | 4,765 | 2,200 | X
MARMAC 18 | McDonough Marine Service | 1998 | 250 | 72 | 4,765 | 2,200 | X
MARMAC 17 | McDonough Marine Service | 1997 | 250 | 72 | 4,765 | 2,200 | X
MARMAC 16 | McDonough Marine Service | 1995 | 250 | 72 | 4,765 | 2,200 | X
MARMAC 15 | McDonough Marine Service | 1995 | 250 | 72 | 4,765 | 2,200 | X
MARMAC 12 | McDonough Marine Service | 1994 | 250 | 72 | 4,765 | 2,200 | X
MARMAC 11 | McDonough Marine Service | 1994 | 250 | 72 | 4,765 | 2,200 | X
MARMAC 9 | McDonough Marine Service | 1993 | 250 | 72 | 4,765 | 2,200 | X
COLUMBIA NORFOLK | Moran Towing | 1982 | 329′ 3½″ | 78 | 8,035.7 | 8,000 | X

[FR Doc. 2010-6146 Filed 3-19-10; 8:45 am]

BILLING CODE 4910-81-P